DEPARTMENT OF THE INTERIOR

Bureau of Ocean Energy Management

[Docket No. BOEM-0071]

Guidelines for Providing Information on Lighting and Marking of Structures Supporting Renewable Energy Development

AGENCY: Bureau of Ocean Energy Management (BOEM), Interior.

ACTION: Notice of availability of Draft Proposed Guidelines for Providing Information on Lighting and Marking of Structures Supporting Renewable Energy Development.

SUMMARY: BOEM's Office of Renewable Energy Programs (OREP) is making available for public review its Draft Proposed Guidelines for Providing Information on Lighting and Marking of Structures Supporting Renewable Energy Development on the Outer Continental Shelf (OCS) and is inviting public comment on how they might be improved. The guidelines may be accessed at https://www.boem.gov/National-and-Regional-Guidelines-for-Renewable-Energy-Activities/.

DATES: Stakeholders and interested parties may submit comments electronically or by regular mail, postmarked no later than November 25, 2019. OREP is also offering a web-based presentation on this subject on November 20, 2019, which may be accessed at http://www.boem.gov/Regulatory-Framework.

ADDRESSES: Comments should be submitted in one of the two following ways:

1. Electronically: http://www.regulations.gov. In the entry entitled, “Enter Keyword or ID,” search for BOEM-2019-0071. Follow the instructions to submit public comments in response to this document.

2. Written Comments: Mail to: Bureau of Ocean Energy Management, Office of Renewable Energy Programs, 45600 Woodland Road, VAM-OREP, Sterling, Virginia 20166. Please include your name, return address, and phone number or email address, so we can contact you if we have questions regarding your submission.

Public Availability of Comments: Before including your address, phone number, email address, or other personally identifiable information in your comment, you should be aware that your entire comment—including your personally identifiable information—may be made publicly available at any time. In order for BOEM to withhold from disclosure your personally identifiable information, you must identify any information contained in the submittal of your comments that, if released, would constitute a clearly unwarranted invasion of your personal privacy. You must also briefly describe any possible harmful consequences of the disclosure of information, such as embarrassment, injury, or other harm. While you can ask us in your comment to withhold your personally identifiable information from public review, we cannot guarantee that we will be able to do so.

FOR FURTHER INFORMATION CONTACT: Angel McCoy, angel.mccoy@boem.gov, or by mail at: Bureau of Ocean Energy Management, Office of Renewable Energy Programs, 45600 Woodland Road, VAM-OREP, Sterling, Virginia 20166, (703) 787-1758.

SUPPLEMENTARY INFORMATION:

Authority: This notice is published pursuant to subsection 8(p) of the OCS Lands Act (43 U.S.C. 1337(p)), added by Section 388 of the Energy Policy Act of 2005, and the implementing regulations at 30 CFR 585.116. This regulatory provision states that the Director, “may . . . solicit information from industry and other relevant stakeholders (including state and local agencies), as necessary, to evaluate the state of the offshore renewable energy industry, including the identification of potential challenges or obstacles to its continued development.”

Purpose: BOEM is seeking public comment on its Draft Proposed Guidelines for Providing Information on Lighting and Marking of Structures Supporting Renewable Energy Development on the OCS. In particular, BOEM is seeking comment on whether these draft proposed guidelines set forth appropriate recommendation and/or are necessary given applicable international standards and practices.

The BOEM Office of Renewable Energy Programs (OREP) drafted these guidelines based upon studies and consultations with the Federal Aviation Administration (FAA) and United States Coast Guard (USCG). In response to stakeholder comments and concerns, BOEM convened a working group of Federal agencies with interests in lighting, including the FAA, USCG, Department of Defense (DoD), National Park Service, United States Fish and Wildlife Service, and the Bureau of Safety and Environmental Enforcement. The working group noted the absence of FAA regulations or guidance regarding the use of lighting for offshore wind turbines beyond the United States Territorial Sea, 12 nm (22.2 km) offshore.

In addition, BOEM funded the study Development of Guidance for Lighting of Offshore Wind Turbines Beyond 12 Nautical Miles (BOEM OCS Study 2016-002, https://www.boem.gov/offshore-lighting-guidance/). The study analyzed FAA guidance (Advisory Circular AC 70/7460-1, Chapter 13) and identified best management practices related to aviation safety while addressing environmental concerns identified in BOEM OCS Study 2013-0116. This guidance incorporates conclusions of the 2016 study and recommendations from the working group.

These draft proposed guidelines contain recommendations for industry to follow and also summarize the relevant FAA and USCG regulatory requirements on lighting and marking design for wind energy facilities on Federal renewable energy leases on the OCS. The draft proposed guidelines outline the types of information that BOEM requests from lessees as part of their Site Assessment Plan (SAP), Construction and Operations Plan (COP), or General Activities Plan (GAP), as applicable. BOEM's goal is to ensure that the lighting and marking of offshore wind energy facilities:

• Are safe;

• do not unreasonably interfere with other uses of the OCS;

• do not cause undue harm or damage to natural resources; life (including human and wildlife); property; the marine, coastal, or human environment; or sites, structures, or objects of historical or archaeological significance;

• use best available and safest technology; and

• use best management practices.

These recommendations are offered to assist lessees in demonstrating that their SAPs, COPs or GAPs adequately address the concerns enumerated above. This draft proposed guidance is not intended to set information or data standards or prescribe additional regulatory requirements. Even under the draft proposed guidance, lessees would remain free to propose alternative design parameters to provide for aviation safety, avoid harm to wildlife, avoid interference with other users, and/or further other criteria for plan approval.

For more information about BOEM's renewable energy program, please visit: http://www.boem.gov/Renewable-Energy/.

Protection of Privileged or Confidential Information: BOEM will protect privileged or confidential information that you submit as required by the Freedom of Information Act (FOIA). Exemption 4 of FOIA applies to trade secrets and commercial or financial information that you submit that is privileged or confidential. If you wish to protect the confidentiality of such information, clearly mark it and request that BOEM treat it as confidential. BOEM will not disclose such information, except as required by FOIA. Please label privileged or confidential information “Contains Confidential Information” and consider submitting such information as a separate attachment.

However, BOEM will not treat as confidential any aggregate summaries of such information or comments not containing such information. Additionally, BOEM may not treat as confidential the legal title of the commenting entity (e.g., the name of your company). Information that is not labeled as privileged or confidential will be regarded by BOEM as suitable for public release.

Dated: October 21, 2019.
Walter D. Cruickshank,
Acting Director, Bureau of Ocean Energy Management.

[FR Doc. 2019-23248 Filed 10-24-19; 8:45 am]

BILLING CODE 4310-MR-P